COMMISSION ON CIVIL RIGHTS

Sunshine Act Meeting Notice

AGENCY: United States Commission on Civil Rights.

ACTION: Notice of commission business meeting.

SUMMARY: Notice is hereby given, pursuant to the provisions of the rules and regulations of the U.S. Commission on Civil Rights (Commission), and the Federal Advisory Committee Act (FACA), that a Business Meeting of the U.S. Commission on Civil Rights will be convened at 11 a.m. on Friday, December 2, 2016.

DATES: Friday, December 2, 2016, at 11 a.m. EST.

ADDRESSES: National Place Building, 1331 Pennsylvania Ave. NW., 11th Floor, Suite 1150, Washington, DC 20425 (Entrance on F Street NW.).

FOR FURTHER INFORMATION CONTACT: Brian Walch, Communications and Public Engagement Director. Telephone: (202) 376-8371; TTY: (202) 376-8116; Email: publicaffairs@usccr.gov.

SUPPLEMENTARY INFORMATION: This business meeting is open to the public. If you would like to listen to the business meeting, please contact the above for the call-in information.

Hearing-impaired persons who will attend the briefing and require the services of a sign language interpreter should contact Pamela Dunston at (202) 376-8105 or at signlanguage@usccr.gov at least three business days before the scheduled date of the meeting.

Meeting Agenda

I. Approval of Agenda

II. Business Meeting

A. Program Planning

• Update on Status of 60th Anniversary Plans

B. State Advisory Committees

• Presentation by the Chair of the Michigan State Advisory Committee on the Committee's report on civil forfeiture in Michigan

• Presentation by Regional Program Unit Coordinator David Mussatt on Status of Regional Program Offices

• State Advisory Committee Appointments

• California

• New Mexico

• Wyoming

• Indiana

C. Management and Operations

• Staff Director's Report

III. Adjourn Meeting

Dated: November 23, 2016.
Brian Walch,
Director, Communications and Public Engagement.

[FR Doc. 2016-28695 Filed 11-23-16; 4:15 pm]

BILLING CODE 6335-01-P